DEPARTMENT OF AGRICULTURE

Economic Research Service

7 CFR Part 3701

Availability of Information

AGENCY: Economic Research Service, USDA.

ACTION: Final rule.

SUMMARY: This rule amends regulations of the Economic Research Service (ERS) regarding the availability of information to the public in accordance with the Freedom of Information Act (FOIA). It informs the public of the change in location and telephone number of the FOIA Coordinator for ERS, provides a TTY number for access for hearing impaired individuals, addresses multitrack processing of requests and the availability of “reading room” material by electronic telecommunication, pursuant to the Electronic FOIA Amendments of 1996, Public Law 104-231, and provides current information on obtaining ERS published data and reports.

EFFECTIVE DATE: This rule will become effective December 19, 2001.

FOR FURTHER INFORMATION CONTACT: Stasia A.M. Hutchison, FOIA Coordinator, Agricultural Research Service, USDA, 5601 Sunnyside Avenue, Mail Stop 5128, Beltsville, Maryland 20705-5128; Telephone 301-504-1655; TTY-VOICE (301) 504-1743; Facsimile (301) 504-1648; e-mail shutchison@ars.usda.gov.

SUPPLEMENTARY INFORMATION: The FOIA requires Federal agencies to publish in the Federal Register regulations describing how the public may obtain information from the agency (5 U.S.C. 552(a)(1)). Part 3701 of Title 7, Code of Federal Regulations, is issued in accordance with the regulations of the Secretary of Agriculture at 7 CFR part 1, subpart A, implementing FOIA.

Pursuant to the Electronic FOIA Amendments of 1996, Public Law 104-231, § 3701.2 is updated to address the availability of “reading room” material by electronic telecommunication means. Also § 3701.4 is revised to address multitrack processing of requests. Former § 3701.6 is updated to provide current information on obtaining ERS published data and reports. As a result, former §§ 3701.4, 3701.5, and 3701.6 are renumbered and § 3701.7 added.

This rule also amends part 3701 to inform the public of the change in the location and telephone number of the FOIA Coordinator for ERS and to provide a TTY number for access for hearing impaired individuals.

This rule will become effective 30 days after this publication pursuant to 5 U.S.C. 553(d). Further, this rule has been reviewed to ensure accordance with Executive Orders 12988 and 12866. This rule will not cause a significant economic impact or other substantial effect on small entities. Therefore, the requirements of this Regulatory Flexibility Act, 5 U.S.C. 601, et seq., do not apply.

List of Subjects in 7 CFR part 3701

Freedom of Information.

Accordingly, 7 CFR part 3701 is revised to read as follows:

PART 3701—PUBLIC INFORMATION

Sec.
3701.1 General statement.
3701.2 Public inspection, copying, and indexing.
3701.3 Requests for records.
3701.4 Multitrack processing.
3701.5 Denials.
3701.6 Appeals.
3701.7 Requests for published data and information.

Authority: 5 U.S.C. 301, 552; 7 CFR part 1, subpart A and appendix A thereto. § 3701.1 General statement.

This part is issued in accordance with the regulations of the Secretary of Agriculture in part 1, subpart A of this title and appendix A thereto, implementing the Freedom of Information Act (FOIA) (5 U.S.C. 552). The Secretary's regulations, as implemented by the regulations in this part, govern the availability of records of the Economic Research Service (ERS) to the public.

§ 3701.2 Public inspection, copying, and indexing.

5 U.S.C. 552(a)(2) requires that certain materials be made available for public inspection and copying and that a current index of these materials be published quarterly or otherwise be made available. Members of the public may request access to such materials maintained by ERS at the following office: Information Staff, ARS, REE, USDA, Room 1-2248, Mail Stop 5128, 5601 Sunnyside Avenue, Beltsville, MD 20705-5128; Telephone (301) 504-1640 or (301) 504-1655; TTY-VOICE (301) 504-1743. Office hours are 8 a.m. to 4:30 p.m. Information maintained in our electronic reading room can be accessed at http://www.ars.usda.gov/is/foia/#Electronic.

§ 3701.3 Requests for records.

Requests for records of ERS under 5 U.S.C. 552(a)(3) shall be made in accordance with § 1.5 of this title and submitted to the FOIA Coordinator, Information Staff, ARS, REE, USDA, Mail Stop 5128, 5601 Sunnyside Avenue, Beltsville, MD 20705-5128; Telephone (301) 504-1640 or (301) 504-1655; TTY-VOICE (301) 504-1743; Facsimile (301) 504-1648; e-mail vherberger@ars.usda.gov or shutchison@ars.usda.gov. The FOIA Coordinator is delegated authority to make determinations regarding such requests in accordance with § 1.3(c) of this title.

§ 3701.4 Multitrack processing.

(a) When ERS has a significant number of requests, the nature of which precludes a determination within 20 working days, the requests may be processed in a multitrack processing system, based on the date of receipt, the amount of work and time involved in processing the request, and whether the request qualifies for expedited processing.

(b) ERS may establish as many processing tracks as appropriate; processing within each track shall be based on a first-in, first-out concept, and rank-ordered by the date of receipt of the request.

(c) A requester whose request does not qualify for the fastest track may be given an opportunity to limit the scope of the request in order to qualify for the fastest track. This multitrack processing system does not lessen agency responsibility to exercise due diligence in processing requests in the most expeditious manner possible.

(d) ERS shall process requests in each track on a “first-in, first-out” basis, unless there are unusual circumstances as set forth in § 1.16 of this title, or the requester is entitled to expedited processing as set forth in § 1.9 of this title.

§ 3701.5 Denials.

If the FOIA Coordinator determines that a requested record is exempt from mandatory disclosure and that discretionary release would be improper, the FOIA Coordinator shall give written notice of denial in accordance with § 1.7(a) of this title.

§ 3701.6 Appeals.

Any person whose request is denied shall have the right to appeal such denial. Appeals shall be made in accordance with § 1.14 of this title and should be addressed as follows: Administrator, ERS, U.S. Department of Agriculture, Washington, DC 20250.

§ 3701.7 Requests for published data and information.

Published data and reports produced by ERS since 1996 are available on the ERS Web site at http//www.ers.usda.gov. Searching on the website is available by topic, by title, or by date. The titles displayed in the search include ERS's separately published research reports as well as articles in ERS-produced periodicals. Full text of all the titles are available at no cost (usually in PDF Files). Printed copies and reports published before 1996 (while supplies last) can be purchased from the ERS-NASS sales desk at the National Technical Information Center at 1-800-999-6779 (8:30 a.m.-5 p.m., Eastern Standard Time, M-F).

Done at Washington, DC, this 31st day of October 2001.
Susan Offutt,
Administrator, Economic Research Service.

[FR Doc. 01-28836 Filed 11-16-01; 8:45 am]

BILLING CODE 3410-18-P